FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Hye Mi Express U.S.A., Inc., 3545 McCall Place, Suite A, Doraville, GA 30340, Officers: Yong J. Kim, Managing Director (Qualifying Individual), Seung Ku Cho, President.

Nanix Express Int'l Inc., 175-41 148th Road, Jamaica, NY 11434, Officers: Edmond Yau, Vice President (Qualifying Individual), Lenny Poon, President.

Rapid Cargo & Logistics, Inc., 11222 La Cienega Blvd., #600, Inglewood, CA 90304, Officers: Brendan Sheen, Managing Director (Qualifying Individual), Yong ki Hong, President.

Non-Vessel Operating Common Carrier and Ocean Freight Forwarder Transportation Intermediary Applicants

Global Container Line, Inc., 1930 Sixth Avenue South, Seattle, WA 98134, Officers: W. Guy Fox, Exec. Vice President (Qualifying Individual), Jason M. Totah, President.

Dated: May 22, 2003.
Bryant L. VanBrakle,
Secretary.

[FR Doc. 03-13320 Filed 5-28-03; 8:45 am]

BILLING CODE 6730-01-P